DEPARTMENT OF TRANSPORTATION

Federal Aviation Administration

14 CFR Part 71

[Docket No. FAA-2010-0688; Airspace Docket No. 09-AGL-23]

RIN 2120-AA66

Establishment of Low Altitude Area Navigation Routes (T-281, T-283, T-285, T-286, and T-288); Nebraska and South Dakota

AGENCY: Federal Aviation Administration (FAA), DOT.

ACTION: Final rule.

SUMMARY: This action establishes five low altitude Area Navigation (RNAV) routes, designated T-281, T-283, T-285, T-286, and T-288, over Nebraska and South Dakota; controlled by Denver Air Route Traffic Control Center (ARTCC) and Minneapolis ARTCC. T-routes are low altitude Air Traffic Service routes, based on RNAV, for use by aircraft that have instrument flight rules (IFR) approved Global Positioning System (GPS)/Global Navigation Satellite System (GNSS) equipment. This action enhances safety and improves the efficient use of the navigable airspace within Denver and Minneapolis ARTCC airspace.

DATES: Effective date 0901 UTC, May 5, 2011. The Director of the Federal Register approves this incorporation by reference action under 1 CFR part 51, subject to the annual revision of FAA Order 7400.9 and publication of conforming amendments.

FOR FURTHER INFORMATION CONTACT: Colby Abbott, Airspace, Regulations and ATC Procedures Group, Office of Airspace Services, Federal Aviation Administration, 800 Independence Avenue, SW., Washington, DC 20591; telephone: (202) 267-8783.

SUPPLEMENTARY INFORMATION:

History

On August 5, 2010, the FAA published in the Federal Register a notice of proposed rulemaking (NPRM) to establish five low altitude RNAV routes within Denver and Minneapolis ARTCC airspace (75 FR 47252). Previously, the pilot's only options are to either fly Visual Flight Rules (VFR), VFR-On-Top, file a flight plan with an altitude high enough for air traffic control to maintain radar surveillance and communication frequency coverage, or fly many miles out of their way to use established airways. Interested parties were invited to participate in this rulemaking effort by submitting written comments on the proposal. One comment was received, from the Aircraft Owners and Pilots Association, supporting the proposal.

The Rule

The FAA is amending Title 14 Code of Federal Regulations (14 CFR) part 71 to establish five low altitude RNAV routes within Denver and Minneapolis ARTCC airspace. This action establishes five T-routes where none exist today and enables aircraft to navigate between the sites identified in the regulatory route descriptions. The routes, designated as T-281, T-283, T-285, T-286, and T-288, will be depicted on the appropriate IFR En Route Low Altitude charts and will only be available for use by GPS/GNSS equipped aircraft. This action enhances safety and facilitates the efficient use of navigable airspace for en route IFR operations within Denver and Minneapolis ARTCC airspace.

Low altitude RNAV routes are published in paragraph 6011 of FAA Order 7400.9U dated August 18, 2010, and effective September 15, 2010, which is incorporated by reference in 14 CFR 71.1. The low altitude RNAV routes listed in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it establishes low altitude RNAV routes (T-routes) over Nebraska and South Dakota.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9U, Airspace Designations and Reporting Points, signed August 18, 2010 and effective September 15, 2010, is amended as follows:

Paragraph 6011 Area Navigation Routes

* * * * *

T-281 YOZLE, NE to Pierre, SD [New]
YOZLE, NE | Fix | (Lat. 41°01′33″ N., long. 99°39′06″ W.)
BOKKI, NE | Fix | (Lat. 41°39′55″ N., long. 99°52′17″ W.)
Ainsworth, NE (ANW) | VOR/DME | (Lat. 42°34′09″ N., long. 99°59′23″ W.)
LKOTA, SD | WP | (Lat. 43°15′28″ N., long. 100°03′14″ W.)
Pierre, SD (PIR) | VORTAC | (Lat. 44°23′40″ N., long. 100°09′46″ W.)
* * * * * * *
T-283 Scottsbluff, NE to Pierre, SD [New]
Scottsbluff, NE (BFF) | VORTAC | (Lat. 41°53′39″ N., long. 103°28′55″ W.)
Gordon, NE (GRN) | NDB | (Lat. 42°48′04″ N., long. 102°10′46″ W.)
WNDED, SD | WP | (Lat. 43°19′14″ N., long. 101°32′19″ W.)
Pierre, SD (PIR) | VORTAC | (Lat. 44°23′40″ N., long. 100°09′46″ W.)
* * * * * * *
T-285 North Platte, NE to Huron, SD [New]
North Platte, NE (LBF) | VORTAC | (Lat. 41°02′55″ N., long. 100°44′50″ W.)
Thedford, NE (TDD) | VOR/DME | (Lat. 41°58′54″ N., long. 100°43′09″ W.)
MARSS, NE | Fix | (Lat. 42°27′49″ N., long. 100°36′15″ W.)
Valentine, NE (VTN) | NDB | (Lat. 42°51′42″ N., long. 100°32′59″ W.)
LKOTA, SD | WP | (Lat. 43°15′28″ N., long. 100°03′14″ W.)
Winner, SD (ISD) | VOR | (Lat. 43°29′16″ N., long. 99°45′41″ W.)
Huron, SD (HON) | VORTAC | (Lat. 44°26′24″ N., long. 98°18′40″ W.)
T-286 Rapid City, SD to Grand Island, NE [New]
Rapid City, SD (RAP) | VORTAC | (Lat. 43°58′34″ N., long. 103°00′44″ W.)
Gordon, NE (GRN) | NDB | (Lat. 42°48′04″ N., long. 102°10′46″ W.)
EFFEX, NE | WP | (Lat. 42°19′59″ N., long. 101°20′11″ W.)
Thedford, NE (TDD) | VOR/DME | (Lat. 41°58′54″ N., long. 100°43′09″ W.)
BOKKI, NE | Fix | (Lat. 41°39′55″ N., long. 99°52′17″ W.)
Grand Island, NE (GRI) | VORTAC | (Lat. 40°59′03″ N., long. 98°18′53″ W.)
* * * * * * *
T-288 Rapid City, SD to Wolback, NE [New]
Rapid City, SD (RAP) | VORTAC | (Lat. 43°58′34″ N., long. 103°00′44″ W.)
WNDED, SD | WP | (Lat. 43°19′14″ N., long. 101°32′19″ W.)
Valentine, NE (VTN) | NDB | (Lat. 42°51′42″ N., long. 100°32′59″ W.)
Ainsworth, NE (ANW) | VOR/DME | (Lat. 42°34′09″ N., long. 99°59′23″ W.)
FESNT, NE | WP | (Lat. 42°03′57″ N., long. 99°17′18″ W.)
Wolbach, NE (OBH) | VORTAC | (Lat. 41°22′33″ N., long. 98°21′13″ W.)

Issued in Washington, DC, on January 20, 2011.
Edith V. Parish,
Manager, Airspace, Regulations and ATC Procedures Group.

[FR Doc. 2011-1800 Filed 1-27-11; 8:45 am]

BILLING CODE 4910-13-P